Title 3—

The President

Proclamation 7868 of February 7, 2005

National African American History Month, 2005

By the President of the United States of America

A Proclamation

Throughout our Nation's history, the contributions of African Americans have stirred our Nation's conscience and helped shape our character. During National African American History Month, we honor the determination and commitment of generations of African Americans in pursuing the promises of America.

The theme of National African American History Month this year, “The Niagara Movement: Black Protest Reborn, 1905-2005,” honors the grassroots movement of 1905 to 1910 that was organized to fight racial discrimination in America. Led by W.E.B. DuBois, the movement called for voting rights for African Americans, opposed school segregation, and worked to elect officials committed to fighting racial prejudice. Americans today carry on this movement as our Nation strives to live up to our founding principle that all of God's children are created equal.

It is important to teach our children about the heroes of the civil rights movement who, with courage and dignity, forced America to confront the central defect of our founding. Every American should know about the men and women whose determination and persistent eloquence forced people of all races to examine their hearts and revise our Nation's Constitution and laws. As we celebrate African American History Month, we remember how great the struggle for racial justice has been. And we renew our efforts to fight for equal rights for all Americans. We have made great progress, but our work is not done.

NOW, THEREFORE, I, GEORGE W. BUSH, President of the United States of America, by virtue of the authority vested in me by the Constitution and laws of the United States, do hereby proclaim February 2005 as National African American History Month. I call upon public officials, educators, librarians, and all the people of the United States to observe this month with appropriate programs and activities that honor the history, accomplishments, and contributions of African Americans.

IN WITNESS WHEREOF, I have hereunto set my hand this seventh day of February, in the year of our Lord two thousand five, and of the Independence of the United States of America the two hundred and twenty-ninth.

B

[FR Doc. 05-2729

Filed 2-9-05; 8:45 am]

Billing code 3195-01-P